DEPARTMENT OF ENERGY

Federal Energy Regulatory Commission

Combined Notice of Filings #1

Take notice that the Commission received the following electric corporate filings:

Docket Numbers: EC15-206-000.

Applicants: South Central MCN, LLC.

Description: Application of South Central MCN LLC for Authorization under Section 203 to Acquire Transmission Facilities and Request for Expedited Consideration, Shortened Comment Period and Certain Waivers.

Filed Date: 9/14/15.

Accession Number: 20150914-5257.

Comments Due: 5 p.m. ET 10/5/15.

Docket Numbers: EC15-207-000.

Applicants: Eel River Power LLC.

Description: Application for Authorization Under Section 203 of the Federal Power Act and Request for Waivers, Expedited Action, Confidential Treatment and Shortened Comment Period of Eel River Power LLC.

Filed Date: 9/14/15.

Accession Number: 20150914-5297.

Comments Due: 5 p.m. ET 10/5/15.

Take notice that the Commission received the following electric rate filings:

Docket Numbers: ER10-2819-004; ER14-413-002; ER14-1390-003; ER10-2358-005; ER14-1397-003; ER10-3131-005; ER10-2431-005; ER15-2255-001.

Applicants: ALLETE, Inc., Lake Benton Power Partners LLC, Storm Lake Power Partners I LLC, Storm Lake Power Partners II, LLC, Chanarambie Power Partners, LLC, Armenia Mountain Wind, LLC, Condon Wind Power, LLC, ALLETE Clean Energy, Inc.

Description: Errata to July 23, 2015 Notice of Non-Material Change in Status of ALLETE, Inc., et al.

Filed Date: 9/14/15.

Accession Number: 20150914-5268.

Comments Due: 5 p.m. ET 10/5/15.

Docket Numbers: ER15-192-001.

Applicants: Arizona Public Service Company.

Description: Tariff Amendment: Service Agreement Nos. 338 and 339—APS Response Deficiency Letter to be effective 12/31/9998.

Filed Date: 9/14/15.

Accession Number: 20150914-5254.

Comments Due: 5 p.m. ET 10/5/15.

Docket Numbers: ER15-2255-000.

Applicants: Armenia Mountain Wind, LLC.

Description: Amendment to July 23, 2015 Armenia Mountain Wind, LLC tariff filing.

Filed Date: 9/14/15.

Accession Number: 20150914-5260.

Comments Due: 5 p.m. ET 10/5/15.

Docket Numbers: ER15-2255-001; ER10-2819-004; ER14-413-002; ER14-1397-003; ER14-1390-003; ER10-3131-005; ER10-2431-005; ER10-2358-005.

Applicants: ALLETE, Inc., Lake Benton Power Partners LLC, Storm Lake Power Partners I LLC, Storm Lake Power Partners II, LLC, Chanarambie Power Partners, LLC, Armenia Mountain Wind, LLC, Condon Wind Power, LLC, ALLETE Clean Energy, Inc.

Description: Errata to July 23, 2015 Notice of Non-Material Change in Status of ALLETE, Inc., et. al.

Filed Date: 9/14/15.

Accession Number: 20150914-5268.

Comments Due: 5 p.m. ET 10/5/15.

Docket Numbers: ER15-2651-000.

Applicants: PJM Interconnection, L.L.C., American Transmission Systems, Incorporated.

Description: § 205(d) Rate Filing: ATSI submits Service Agreement No. 4245 (TIA) to be effective 12/7/2015.

Filed Date: 9/14/15.

Accession Number: 20150914-5219.

Comments Due: 5 p.m. ET 10/5/15.

Docket Numbers: ER15-2652-000.

Applicants: Southwest Power Pool, Inc.

Description: § 205(d) Rate Filing: 2252R4 Cottonwood Wind Project GIA to be effective 9/3/2015.

Filed Date: 9/15/15.

Accession Number: 20150915-5027.

Comments Due: 5 p.m. ET 10/6/15.

Docket Numbers: ER15-2653-000.

Applicants: Campbell County Wind Farm, LLC.

Description: Baseline eTariff Filing: Filing of Market-Based Rate Tariff to be effective 11/14/2015.

Filed Date: 9/15/15.

Accession Number: 20150915-5044.

Comments Due: 5 p.m. ET 10/6/15.

Take notice that the Commission received the following PURPA 210(m)(3) filings:

Docket Numbers: QM15-3-000.

Applicants: Arkansas Electric Cooperative Corporation.

Description: Amendment to April 15, 2015 Application of Arkansas Electric Cooperative Corporation on Behalf of Itself and Its Members to Terminate Mandatory PURPA Purchase Obligation in the Midcontinent ISO, Inc.

In addition, Response to July 14, 2015 Deficiency Letter of Arkansas Electric Cooperative Corporation.

Filed Date: 9/14/15.

Accession Number: 20150914-5282; 20150914-5288.

Comments Due: 5 p.m. ET 10/13/15.

Docket Numbers: QM15-4-000.

Applicants: Arkansas Electric Cooperative Corporation.

Description: Amendment to April 15, 2015 Application of Arkansas Electric Cooperative Corporation on Behalf of Itself and Its Members to Terminate Mandatory PURPA Purchase Obligation in the Southwest Power Pool, Inc.

In addition, Response to July 14, 2015 Deficiency Letter of Arkansas Electric Cooperative Corporation.

Filed Date: 9/14/15.

Accession Number: 20150914-5291; 20150914-5292.

Comments Due: 5 p.m. ET 10/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 15, 2015.
Nathaniel J. Davis, Sr.,
Deputy Secretary.

[FR Doc. 2015-23611 Filed 9-18-15; 8:45 am]

BILLING CODE 6717-01-P